DEPARTMENT OF DEFENSE

Department of the Army

Draft Environmental Impact Statement for the Renewal of Special Use Permit for Military Activities on the De Soto National Forest and Implementation of Installation Mission Support Activities at Camp Shelby, MS

Correction

In notice document 07-1571 beginning on page 15120, in the issue of Friday, March 30, 2007, make the following correction:

On page 15120, in the third column, under the FOR FURTHER INFORMATION CONTACT heading, in the last line, “Program at (610) 313-6228” should read “Programs at (601) 313-6228”.

[FR Doc. C7-1571 Filed 4-3-07; 8:45 am]

BILLING CODE 1505-01-D

DEPARTMENT OF THE INTERIOR

Fish and Wildlife Service

Intent To Prepare a Draft Environmental Impact Report/Environmental Impact Statement for the Buena Vista Lagoon Restoration Project, San Diego County, CA

Correction

In notice document 07-1373 beginning on page 13301 in the issue of Wednesday, March 21, 2007, make the following corrections:

1. On page 13301, in the second column, under the DATES heading, in the third line, “DETR” should read “DEIR”.

2. On page 13302, in the second column, in the eighth line from the bottom of the column, “meting” should read “meeting”.

3. On the same page, in the third column, in the first line, “is” should read “us”.

[FR Doc. C7-1373 Filed 4-3-07; 8:45 am]

BILLING CODE 1505-01-D

DEPARTMENT OF STATE

[Delegation of Authority No. 296]

Delegation by the Under Secretary of State for Political Affairs to the Assistant Secretary of State for Educational and Cultural Affairs of the Functions Relating to Emergency Import Restrictions on Iraqi Cultural Antiquities

Correction

In notice document E7-3011 appearing on page 8054 in the issue of Thursday, February 22, 2007, make the following correction:

In the third column, in sixth line from the bottom of the document, “December 22, 2007” should read “December 22, 2006”.

[FR Doc. Z7-3011 Filed 4-3-07; 8:45 am]

BILLING CODE 1505-01-D